DEPARTMENT OF AGRICULTURE

Submission for OMB Review; Comment Request;

April 7, 2022.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by May 12, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Application and Permit for Non-Federal Commercial Use of Roads, Trails and Areas Restricted by Regulation or Order.

OMB Control Number: 0596-0016.

Summary of Collection: Authority for permits for use of National Forest System (NFS) roads, trails, and areas on NFS lands restricted by order or regulation drives from the National Forest Roads and Trails Act (16 U.S.C. 532-538). This statute authorizes the Secretary of Agriculture to promulgate regulations regarding use of NFS roads, NFS trails, and areas on NFS lands; established procedures for sharing investments in NFS roads; and require commercial users to perform road maintenance commensurate with their use of NFS roads. Forest Service regulations implementing this authority are found in 36 CFR 212.5, 212.9, 212.51, 261.10, 261.12, 261.13, 261.54, and 261.55.

Need and Use of the Information: The information is collected from individuals, corporations, or organizations who want to use a NFS Road, Trail or Area for purposes that are restricted. The agency issues Road Use Permits for a variety of reasons: To allow people to use a road, trail or area that is otherwise closed; to allow people to perform maintenance on a road when they desire a higher standard than the Forest Service does; to allow people to plow snow on a road; for non-federal commercial use of a road; or to allow over size or over weight vehicles. For non-federal commercial use permits, the land owner generally obtains the permit, but will employ a timber/trucking company to haul the material. Without the information FS would not be able to issue permits for moving oversize vehicles on FNS roads, permits to enter areas subject to areas for closures, or permits for motorized use of roads, trails, or areas not designated for such use on a motor vehicle use map.

Description of Respondents: Business or other for-profit; Individuals or households; State, Local or Tribal Government; Not-for-profit institutions; Farms.

Number of Respondents: 1,100.

Frequency of Responses: Reporting: On occasion.

Total Burden Hours: 275.

Levi S. Harrell,
Departmental Information Collection Clearance Officer.

[FR Doc. 2022-07780 Filed 4-11-22; 8:45 am]

BILLING CODE 3411-15-P